DEPARTMENT OF THE INTERIOR

National Park Service

[N6407; NPS-WASO-NAGPRA-NPS0040821; PPWOCRADN0-PCU00RP14.R50000]

Notice of Proposed Transfer or Reinterment: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA BP) proposes to reinter human remains and associated funerary objects listed in a notice of inventory completion published in the Federal Register on July 19, 2024.

DATES: Reinterment of the human remains and associated funerary objects in this notice may occur on or after September 15, 2025.

ADDRESSES: Send written claims for disposition of the human remains and associated funerary objects in this notice to Dr. Lara Noldner, Office of the State Archaeologist Bioarchaeology Program, University of Iowa, 700 S Clinton Street, Iowa City, IA 52242, email lara-noldner@uiowa.edu.

SUPPLEMENTARY INFORMATION: This notice is published as part of the National Park Service's administrative responsibilities under NAGPRA. The determinations in this notice are the sole responsibility of the OSA BP, and additional information on the determinations in this notice, including the results of consultation, can be found in its inventory or related records. The National Park Service is not responsible for the determinations in this notice.

Abstract of Information Available

This notice follows publication of a notice of inventory completion in the Federal Register (89 FR 58756), on July 19, 2024. Human remains representing, at least, 132 individuals have been identified. The 21 associated funerary objects are 16 pieces of faunal bones, four pieces of charcoal, and one piece of shell.

Consultation

Invitations to consult were sent to the Absentee-Shawnee Tribe of Indians of Oklahoma; Assiniboine and Sioux Tribes of the Fort Peck Indian Reservation, Montana; Bad River Band of the Lake Superior Tribe of Chippewa Indians of the Bad River Reservation, Wisconsin; Cheyenne River Sioux Tribe of the Cheyenne River Reservation, South Dakota; Citizen Potawatomi Nation, Oklahoma; Delaware Nation, Oklahoma; Eastern Shawnee Tribe of Oklahoma; Flandreau Santee Sioux Tribe of South Dakota; Forest County Potawatomi Community, Wisconsin; Hannahville Indian Community, Michigan; Ho-Chunk Nation of Wisconsin; Iowa Tribe of Kansas and Nebraska; Iowa Tribe of Oklahoma; Kaw Nation, Oklahoma; Keweenaw Bay Indian Community, Michigan; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lower Sioux Indian Community in the State of Minnesota; Miami Tribe of Oklahoma; Minnesota Chippewa Tribe, Minnesota (Six component reservations: Bois Forte Band (Nett Lake); Fond du Lac Band; Grand Portage Band; Leech Lake Band; Mille Lacs Band; White Earth Band); Oglala Sioux Tribe; Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation; Prairie Island Indian Community in the State of Minnesota; Quapaw Nation; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Santee Sioux Nation, Nebraska; Shakopee Mdewakanton Sioux Community of Minnesota; Sisseton-Wahpeton Oyate of the Lake Traverse Reservation, South Dakota; Spirit Lake Tribe, North Dakota; Sokaogon Chippewa Community, Wisconsin; Standing Rock Sioux Tribe of North & South Dakota; The Osage Nation; Three Affiliated Tribes of the Fort Berthold Reservation, North Dakota; Upper Sioux Community, Minnesota; Winnebago Tribe of Nebraska; and the Yankton Sioux Tribe of South Dakota. No lineal descendant, or Indian Tribe or Native Hawaiian organization with cultural affiliation can be clearly or reasonably identified for the human remains and/or associated funerary objects in this notice. This determination was made based on lack of associated provenience documentation provided by collectors and/or their proclivity for taking both human remains and funerary objects from regions throughout the United States. The Lower Sioux Indian Community in the State of Minnesota and the Ho-Chunk Nation of Wisconsin have responded in support of this proposed reinterment.

Cultural Affiliation

The following types of information about the cultural affiliation of the human remains and associated funerary objects in this notice are available: anthropological, archaeological, biological, other relevant information, and expert opinion. The information, including the results of consultation, identified:

1. No earlier group connected to the human remains and associated funerary objects.

2. No Indian Tribe or Native Hawaiian organization connected to the human remains and associated funerary objects.

3. No relationship of shared group identity between the earlier group and the Indian Tribe or Native Hawaiian organization that can be reasonably traced through time.

Determinations

The OSA BP has determined that:

• The human remains described in this notice represent the physical remains of 132 individuals of Native American ancestry.

• The 21 objects described in this notice are reasonably believed to have been placed intentionally with or near individual human remains at the time of death or later as part of the death rite or ceremony.

• No known lineal descendant who can trace ancestry to the human remains and associated funerary objects in this notice has been identified.

• No Indian Tribe or Native Hawaiian organization with cultural affiliation to the human remains and associated funerary objects in this notice has been clearly or reasonably identified.

• The human remains and associated funerary objects described in this notice will be reinterred according to applicable laws and policies.

Claims for Disposition

Written requests for repatriation of the human remains and associated funerary objects in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Reinterment of the human remains and associated funerary objects described in this notice may occur on or after September 15, 2025. If requests for repatriation are received, the OSA BP must evaluate the requests and respond in writing to the requestors. The OSA BP is responsible for sending a copy of this notice to the Indian Tribes or Native Hawaiian organizations identified in this notice.

Authority: Native American Graves Protection and Repatriation Act, 25 U.S.C. 3003, and the implementing regulations, 43 CFR 10.10.

Dated: August 5, 2025.
Melanie O'Brien,
Manager, National NAGPRA Program.

[FR Doc. 2025-15406 Filed 8-13-25; 8:45 am]

BILLING CODE 4312-52-P